DEPARTMENT OF THE INTERIOR

Geological Survey

[GX21EG31DW50100; OMB Control Number 1028-NEW]

Agency Information Collection Activities; Submission to the Office of Management and Budget for Review and Approval; Hydrography Maintenance Portal

AGENCY: U.S. Geological Survey, Interior.

ACTION: Notice of information collection; request for comment.

SUMMARY: In accordance with the Paperwork Reduction Act of 1995, we, the U.S. Geological Survey (USGS) are proposing a new information collection, in use without OMB approval.

DATES: Interested persons are invited to submit comments on or before October 7, 2021.

ADDRESSES: Written comments and recommendations for the proposed information collection should be sent within 30 days of publication of this notice to www.reginfo.gov/public/do/PRAMain. Find this particular information collection by selecting “Currently under 30-day Review—Open for Public Comments” or by using the search function. Please provide a copy of your comments to the U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this ICR, contact Michael Tinker by email at mdtinker@usgs.gov, or by telephone at 303-202-4476. You may also view the ICR at http://www.reginfo.gov/public/do/PRAMain. Individuals who are hearing or speech impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 11, 2020. (85 FR 80137). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract. The Hydrography Maintenance Portal (HMP) is a website used by trained editors to access data from the USGS National Hydrography Dataset (NHD) or Watershed Boundary Dataset (WBD) national databases for the purpose of editing the data to update, correct, or otherwise improve it. HMP is used by federal employees of the USGS National Geospatial Program (NGP) and state partners with which USGS has a signed Stewardship Program Memorandums of Understanding (MOU). USGS employees use the HMP as their primary means of accessing NHD and WBD for data management. State partners use the HMP to check out areas of the NHD and/or WBD to perform edits and updates to the data using their specialized, local knowledge of the streams in their areas. These data contributions are very important to maintaining the datasets as A-16 National Geospatial Data Assets, as well as helping to prevent duplication of data by supporting editing of one primary dataset by many.

Using HMP, NHD or WBD data is “checked out” from a national database for a select area. No other editor can check out the data for an area when the data is already checked out. The HMP is not used to directly edit or submit (“check in”) data to the national database. Data checked out with HMP must be edited with USGS hydrography editing tools, such as the WBD Edit Tool or the NHD Update Tool. To check in data, editors must use the USGS hydrography editing tools.

Registered users are assigned check out permissions by the HMP administrators. HMP administrators are a limited group of the USGS NHD/WBD Partner Support Team. HMP user accounts are necessary because they allow HMP administrators to provide assistance if needed, to coordinate production needs, and enable tracking on the editing history for the datasets through reporting.

HMP has reporting functions to generate production statistics. These reports detail active and previous checkout histories within specified date ranges. The business contact information of the users who checked out the data are visible on these reports. Any registered user can generate reports with HMP.

HMP reports are frequently used to coordinate essential production needs between states, or between USGS staff and state partners. The reports allow USGS staff to contact partners if there is a problem with their data or allow partners to contact partners in others states to confirm if editing work is planned or occurring in an adjacent watershed.

Title of Collection: Hydrography Maintenance Portal.

OMB Control Number: 1028-NEW.

Form Number: None.

Type of Review: New, collection in use without OMB approval.

Respondents/Affected Public: General public. NHD stewards and editors.

Total Estimated Number of Annual Respondents: 100.

Total Estimated Number of Annual Responses: 100.

Estimated Completion Time per Response: 1 minute.

Total Estimated Number of Annual Burden Hours: 2 hours.

Respondent's Obligation: Voluntary.

Frequency of Collection: One time.

Total Estimated Annual Nonhour Burden Cost: None.

An agency may not conduct, or sponsor and a person is not required to respond to a collection of information unless it displays a currently valid OMB control number.

The authority for this action is the Paperwork Reduction Act of 1995 (44 U.S.C. 3501 et seq.).

David Brostuen,
Director, National Geospatial Technical Operation Center.

[FR Doc. 2021-19151 Filed 9-3-21; 8:45 am]

BILLING CODE P